DEPARTMENT OF JUSTICE

Drug Enforcement Administration

Manufacturer of Controlled Substances; Notice of Application

Pursuant to § 1301.33(a) of Title 21 of the Code of Federal Regulations (CFR), this is notice that on July 29, 2002, Penick Corporation, 158 Mount Olivet Avenue, Newark, New Jersey 07114, made application by letter to the Drug Enforcement Administration (DEA) for registration as a bulk manufacturer of the basic classes of controlled substances listed below:

Drug | Schedule
Cocaine (9040) | II
Ecgonine (9180) | II

The firm plans to manufacture the listed controlled substance for the manufacture of a non-controlled substance flavor extract.

Any other such applicant and any person who is presently registered with the DEA to manufacture such substances may file comments or objections to the issuance of the proposed registration.

Any such comments or objections may be addressed, in quintuplicate, to the Deputy Assistant Administrator, Office of Diversion Control, Drug Enforcement Administrator, United States Department of Justice, Washington, DC 20537, Attention: Drug Operations Section, Domestic Drug Unit (ODOD) and must be filed no later than June 2, 2003.

Dated: March 11, 2003.
Laura M. Nagel,
Deputy Assistant Administrator, Office of Diversion Control, Drug Enforcement Administration.

[FR Doc. 03-7828 Filed 4-1-03; 8:45 am]

BILLING CODE 4410-09-M